DEPARTMENT OF THE INTERIOR

National Park Service

National Register of Historic Places; Notification of Pending Nominations and Related Actions

Nominations for the following properties being considered for listing or related actions in the National Register were received by the National Park Service before January 24, 2009.

Pursuant to section 60.13 of 36 CFR part 60 written comments concerning the significance of these properties under the National Register criteria for evaluation may be forwarded by United States Postal Service, to the National Register of Historic Places, National Park Service, 1849 C St., NW., 2280, Washington, DC 20240; by all other carriers, National Register of Historic Places, National Park Service, 1201 Eye St., NW., 8th floor, Washington, DC 20005; or by fax, 202-371-6447. Written or faxed comments should be submitted by February 23, 2009.

J. Paul Loether,
Chief, National Register of Historic Places/National Historic Landmarks Program.

IOWA

Polk County

Methodist Deaconess Institute—Esther Hall, 921 Pleasant St., Des Moines, 09000067

NEBRASKA

Burt County

Burt County State Bank, 246 S. 13th St., Tekamah, 09000068

Douglas County

Nicholas Street Historic District, Bounded by N. 11th St., Izard, N. 14th St. and a line parallel to and roughly 450' N. of Nicholas St., Omaha, 09000070

Parker, Frank, Archeological Site (Archeological Resources of the Metro Omaha Management Unit MPS), Address Restricted, Florence, 09000069

Lincoln County

North Platte U.S. Post Office and Federal Building, 416 N. Jeffers St., North Platte, 09000071

OKLAHOMA

Craig County

Little Cabin Creek Bridge (Route 66 in Oklahoma MPS), U.S. 60/69 over Little Cabin Creek, SE of jct with U.S. 44, Vinita, 09000072

Kay County

Huston Elementary School, 304 Vinnedge, Blackwell, 09000073

Northside Elementary School, 720 W. Doolin Ave., Blackwell, 09000074

Parkside Elementary School, 502 E. College, Blackwell, 09000075

Washington Elementary School, 723 W. College, Blackwell, 09000076

Nowata County

Opossum Creek Bridge, Co. Rd. NS-413 over Opossum Creek, South Coffeyville, 09000077

Payne County

Reifsnyder, Josephine, Luston House (Lustron Houses of Oklahoma), 2119 Sherwood, Stillwater, 09000078

Usher, Christian K., Luston House (Lustron Houses of Oklahoma), 1135 E. Moses, Cushing, 09000079

Washington County

House at 1554 SW Rogers (Lustron Houses of Oklahoma), 1554 SW Rogers, Bartlesville, 09000080

[FR Doc. E9-2518 Filed 2-5-09; 8:45 am]

BILLING CODE 4310-70-P